COMMISSION ON CIVIL RIGHTS

Agenda and Notice of Public Meeting of the Maine Advisory Committee

Notice is hereby given, pursuant to the provisions of the rules and regulations of the U.S. Commission on Civil Rights, that a meeting of the Maine Advisory Committee to the Commission will convene at 9:00 a.m. and adjourn at 12:30 p.m. on Monday, August 14, 2000, at the Holiday Inn By The Bay, 88 Spring Street, Portland, Maine 04101. The Committee will make plans to hold a press conference to release its report, Limited English Proficient Students in Maine: An Examination of Equal Educational Opportunities, in September 2000. The Committee will also be briefed by local community advocates of current civil rights issues.

Persons desiring additional information, or planning a presentation to the Committee, should contact Committee Chairperson Gerald Talbot, 207-722-6098, or Fernando Serpa, Civil Rights Analyst, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 19, 2000.
Edward A. Hailes, Jr.,
Acting General Counsel.

[FR Doc. 00-18628 Filed 7-21-00; 8:45 am]

BILLING CODE 6353-01-P